DEPARTMENT OF JUSTICE

Antitrust Division

Notice Pursuant to the National Cooperative Research and Production Act of 1993—Southwest Research Institute (“SwRI”)—Durability and Life Assessment of GTD-111 Buckets

Notice is hereby given that, on April 5, 1999, pursuant to section 6(a) of the National Cooperative Research and Production Act of 1993, 15 U.S.C. 4301 et seq. (“the Act”), Southwest Research Institute (“SwRI”)—Durability and Life Assessment of GTD-111 Buckets has filed written notifications simultaneously with the Attorney General and the Federal Trade Commission disclosing changes in its membership status. The notifications were filed for the purpose of extending the Act's provisions limiting the recovery of antitrust plaintiffs to actual damages under specified circumstances. Specifically, Aramco Services Company, Houston, TX has been added as a party to this venture.

No other changes have been made in either the membership or planned activity of the group research project. Membership in this group research project remains open, and Southwest Research Institute (“SwRI”)—Durability and Life Assessment of GTD-111 Buckets intends to file additional written notification disclosing all changes in membership.

On October 31, 1995, Southwest Research Institute (“SwRI”)—Durability and Life Assessment of GTD-111 Buckets filed its original notification pursuant to Section 6(a) of the Act. The Department of Justice published a notice in the Federal Register pursuant to section 6(b) of the Act on October 17, 1996 (61 FR 54222).

The last notification was filed with the Department on October 21, 1998. A notice was published in the Federal Register pursuant to section 6(b) of the Act on March 19, 1999 (64 FR 13606).

Constance K. Robinson,
Director of Operations, Antitrust Division.

[FR Doc. 00-3124 Filed 2-9-00; 8:45 am]

BILLING CODE 4410-11-M